FEDERAL COMMUNICATIONS COMMISSION

Sunshine Act Meeting; Open Commission Meeting; Wednesday, December 17, 2003

December 10, 2003.

The Federal Communications Commission will hold an Open Meeting on the subjects listed below on Wednesday, December 17, 2003, which is scheduled to commence at 9:30 a.m. in Room TW-C305, at 445 12th Street, SW., Washington, DC.

Item No. | Bureau | Subject
1 | Office of Engineering and Technology | Title: Facilitating Opportunities for Flexible, Efficient, and Reliable Spectrum Use Employing Cognitive Radio Technologies (ET Docket No. 03-108); and Authorization and Use of Software Defined Radios (ET Docket No. 00-47).
|  | Summary: The Commission will consider a Notice of Proposed Rulemaking and Order concerning the use of cognitive radio technologies to facilitate opportunities for more flexible, efficient and reliable spectrum use.
2 | Wireline Competition | Title: Schools and Libraries Universal Service Support Mechanism (CC Docket No. 02-6).
|  | Summary: The Commission will consider a Third Report and Order and Second Further Notice of Proposed Rulemaking concerning the administration of the schools and libraries universal service mechanism.
3 | Wireless Tele-Communications | Title: Amendment of the Commission's Rules Regarding Dedicated Short-Range Communication Services in the 5.850-5.925 GHz Band (5.9 GHz Band) (WT Docket No. 01-90); and Amendment of Parts 2 and 90 of the Commission's Rules to Allocate the 5.850-5.925 GHz Band to the Mobile Service for Dedicated Short Range Communications of Intelligent Transportation Services (ET Docket No. 98-95, RM-9096).
|  | Summary: The Commission will consider a Report and Order concerning licensing and service rules for the Dedicated Short Range Communications (DSRC) Service in the Intelligent Transportation Systems (ITS) Radio Service in the 5.850-5.925 GHz band (5.9 GHz band).

Additional information concerning this meeting may be obtained from Audrey Spivack or David Fiske, Office of Media Relations, (202) 418-0500; TTY 1-888-835-5322.

Audio/Video coverage of the meeting will be broadcast live over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 03-31014 Filed 12-11-03; 2:02 pm]

BILLING CODE 6712-01-P